INTERNATIONAL TRADE COMMISSION

[Investigations Nos. 701-TA-429 and 731-TA-1011 (Preliminary)]

Certain Cooked, Peeled, and Individually Quick Frozen Coldwater Pink Shrimp From Canada

AGENCY: United States International Trade Commission.

ACTION: Notice of withdrawal of petition in countervailing duty and antidumping investigations.

SUMMARY: On July 1, 2002, the Department of Commerce and the Commission received a letter from petitioners in the subject investigations (the Oregon Trawl Commission, Astoria, OR; the Shrimp Producers Marketing Cooperative, Newport, OR; the Fishermen's Marketing Association, Eureka, CA; the Coos Bay Trawlers Association, Coos Bay, OR; and Bay Ocean Seafood Co., Garibaldi, OR) withdrawing the petition. Commerce has not initiated investigations as provided for in sections 702(c) and 732(c) of the Tariff Act of 1930 (19 U.S.C. § 1671a(c) and 1673a(c)). Accordingly, the Commission gives notice that its countervailing duty and antidumping investigations concerning certain cooked, peeled, and individually quick frozen coldwater pink shrimp from Canada (investigations Nos. 701-TA-429 and 731-TA-1011 (Preliminary)) are discontinued.

EFFECTIVE DATE: July 1, 2002.

FOR FURTHER INFORMATION CONTACT: Jim McClure (202-205-3191), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

The public record for these investigations may be viewed on the Commission's electronic docket (EDIS-ON-LINE) at http://dockets.usitc.gov/eol/public.

Issued: July 3, 2002.
By order of the Commission.
Marilyn R. Abbott,
Secretary to the Commission.

[FR Doc. 02-17335 Filed 7-9-02; 8:45 am]

BILLING CODE 7020-02-P